DEPARTMENT OF COMMERCE

National Oceanic and Atmospheric Administration

50 CFR Part 226

[I.D. 110904F]

Endangered and Threatened Species: Notice of Public Hearings on Proposed Designation of Critical Habitat for Seven Evolutionarily Significant Units of Pacific Salmon (Oncorhynchus tshawytscha) and Steelhead (O. mykiss) in California

AGENCY: National Marine Fisheries Service (NMFS), National Oceanic and Atmospheric Administration (NOAA), Commerce.

ACTION: Notice of public hearings.

SUMMARY: On December 10, 2004, NMFS proposed critical habitat designations for two Evolutionarily Significant Units (ESUs) of chinook salmon (Oncorhynchus tshawytscha) and five ESUs of O. mykiss (inclusive of anadromous steelhead and resident rainbow trout) in California that are listed under the Endangered Species Act of 1973. The public comment period for this proposal presently closes on February 8, 2005. In this document, NMFS is announcing that public hearings have been scheduled at four locations in California in January and early February 2005 to provide additional opportunities for the public and other interested parties to comment on the subject proposals.

DATES: Written comments on the proposed critical habitat designations must be received by February 8, 2005. In order to provide the public additional opportunity to comment on these critical habitat designation proposals, NMFS will be holding four public hearings in California at the specific dates and locations listed below:

January 13, 2005; 6:30-9:30pm at the North Coast Inn, 4975 Valley West Blvd., Arcata, CA 95521; January 19, 2005; 6:30-9:30pm at the DoubleTree Hotel Sonoma Wine Country, One DoubleTree Drive, Rohnert Park, CA 94928;

January 20, 2005; 6:30-9:30pm at the Radisson Hotel Sacramento, 500 Leisure Lane, Sacramento, CA 95815;

February 1, 2005; 6:30-9:30pm at Fess Parker's DoubleTree Resort, 633 East Cabrillo Blvd., Santa Barbara, CA 93103.

ADDRESSES: You may submit comments on the proposed critical habitat designations, identified by docket number [041123329-4329-01] and RIN number [0648-AO04], by any of the following methods:

• E-mail: critical.habitat.swr@noaaa.gov. Include docket number and RIN number in the subject line of the message.

• Mail: Submit written comments and information to Assistant Regional Administrator, NMFS, Protected Resources Division, 501 W. Ocean Blvd., Suite 4200, Long Beach, CA 90802-4213. You may hand-deliver written comments to our office during normal business hours at the address given above.

• Federal e-Rulemaking Portal: http://www.regulations.gov

• Fax: 562-980-4027.

FOR FURTHER INFORMATION CONTACT: Craig Wingert, NMFS, Southwest Region, 562/ 980-4021; or Marta Nammack at 301/713-1401. The proposed rule, maps and other materials related to the proposal can be found on the Southwest Region's website at http://swr.nmfs.noaa.gov.

SUPPLEMENTARY INFORMATION:

Background

On December 10, 2004, NMFS proposed critical habitat designations for two Evolutionarily Significant Units (ESUs) of chinook salmon (Oncorhynchus tshawytscha) and five ESUs of O. mykiss (inclusive of anadromous steelhead and resident rainbow trout) in California that are listed as threatened or endangered species under the Endangered Species Act of 1973 (69 FR 71880). The seven ESU of salmon and O. mykiss include: (1) California Coastal chinook salmon, (2) Northern California O. mykiss, (3) Central California Coast O. mykiss, (4) South-Central California Coast O. mykiss, (5) Southern California O. mykiss, (6) Central Valley spring-run chinook salmon, and (7) Central Valley O. mykiss. The public comment period for these proposals opened on December 10, 2004 and closes on February 8, 2005.

Public Hearings

Joint Commerce-Interior ESA implementing regulations state that the Secretary shall promptly hold at least one public hearing if any person requests one within 45 days of publication of a proposed regulation to list a species or to designate critical habitat (see 50 CFR 424.16(c)(3)). NMFS has already scheduled hearings to allow affected stakeholders and members of the public the opportunity to provide comments directly to agency staff during the comment period (see DATES, above). However, these public meetings are not the only opportunity for the public to provide input on these proposals. The public and stakeholders are encouraged to continue to comment and provide input to NMFS on the proposals (via correspondence, e-mail, and the Internet; see ADDRESSES, above) up until the scheduled close of the comment period on February 8, 2005.

References

Copies of the Federal Register notices and related materials cited herein are available on the Southwest Region's website at http://swr.nmfs.noaa.gov or upon request (see ADDRESSES section above).

Dated: December 29, 2004.
P. Michael Payne,
Acting Director, Office of Protected Resources, National Marine Fisheries Service.

[FR Doc. 05-94 Filed 1-3-05; 8:45 am]

BILLING CODE 3510-22-S